DEPARTMENT OF JUSTICE

Notice of Lodging of Proposed Consent Decree Under the Comprehensive Environmental Response, Compensation, and Liability Act

On April 24, 2013, the Department of Justice lodged a proposed Consent Decree with the United States District Court for the Central District of California in the lawsuit entitled United States v. LeVan Specialty Company, Inc., Civil Action No. 2:13-cv-02887-PA-JEMx.

The Consent Decree resolves a claim against LeVan Specialty Company, Inc., (“LeVan”), under Section 107 of the Comprehensive Environmental Response, Compensation, and Liability Act (“CERCLA”), 42 U.S.C. 9607 related to releases and threatened releases of hazardous substances at the Puente Valley Operable Unit (“PVOU”) of the San Gabriel Valley Superfund Site, Area 4, Los Angeles County, California (the “Site”). The Consent Decree, reflecting an ability-to-pay settlement, recovers $155,000 in response costs. The Consent Decree provides a covenant not to sue to LeVan for past and certain future costs and response actions at the site under Sections 106 and 107 of CERCLA and Section 7003 of the Resource Conservation and Recovery Act, (“RCRA”), 42 U.S.C. 6973.

The publication of this notice opens a period for public comment on the Consent Decree. Comments should be addressed to the Assistant Attorney General, Environment and Natural Resources Division, and should refer to United States v. LeVan Specialty Company, Inc., D.J. Ref. No. 90-11-2-354/30. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, DC 20044-7611.

Under Section 7003(d) of RCRA, a commenter may request an opportunity for a public meeting in the affected area.

During the public comment period, the Consent Decree may be examined and downloaded at this Justice Department Web site: http://www.usdoj.gov/enrd/Consent_Decrees.html. We will provide a paper copy of the Consent Decree upon written request and payment of reproduction costs. Please mail your request and payment to:

Consent Decree Library, U.S. DOJ—ENRD, P.O. Box 7611, Washington, DC 20044-7611.

Please enclose a check or money order for $9.00 (25 cents per page reproduction cost) payable to the United States Treasury.

Henry S. Friedman,
Assistant Section Chief, Environmental Enforcement Section, Environment and Natural Resources Division.

[FR Doc. 2013-10725 Filed 5-6-13; 8:45 am]

BILLING CODE 4410-15-P